DEPARTMENT OF ENERGY

Federal Energy Regulatory Commission

[Docket No. RP03-195-000]

Dominion Transmission, Inc.; Notice of Tariff Filing

December 13, 2002.

Take notice that on December 9, 2002, Dominion Transmission, Inc. (DTI) tendered for filing to be part of its FERC Gas Tariff, Third Revised Volume No. 1, First Revised Sheet No. 308, with an effective date of February 1, 2003.

DTI states that this tariff filing is intended to eliminate potential ambiguity in DTI's Rate Schedule GSS by clarifying that the holder of storage capacity at the start of each Winter Period is responsible for compliance with DTI's minimum turnover requirements. DTI explains that the minimum turnover provisions are intended to provide an incentive for customers to withdraw volumes from storage during the Winter Period consistent with DTI's operational requirements. DTI explains that the minimum turnover requirements are seasonal, not monthly and that this flexibility renders the tariff provisions arguably ambiguous with respect to their application in the event of capacity release during the Winter Period.

DTI states that the only reasonable interpretation of the minimum turnover provisions places the responsibility for the required withdrawals on the only shipper with the opportunity to ensure that withdrawals are made during the Winter Period—that is, the shipper that holds the capacity on November 1 of each year.

DTI states that copies of its letter of transmittal and enclosures have been served upon DTI's customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's web site under the “e-Filing” link.

Linwood A. Watson, Jr.,
Deputy Secretary.

[FR Doc. 02-32025 Filed 12-18-02; 8:45 am]

BILLING CODE 6717-01-P